DEPARTMENT OF TRANSPORTATION

Pipeline and Hazardous Materials Safety Administration

[Docket ID PHMSA-2012-0175]

Notice of Availability of Draft Environmental Assessment for Public Comment for the Longhorn Pipeline Reversal Project

AGENCY: Pipeline and Hazardous Materials Safety Administration (PHMSA), DOT.

ACTION: Notice of Availability of Draft Environmental Assessment for Public Comment for the Longhorn Pipeline Reversal Project.

SUMMARY: In accordance with the National Environmental Policy Act (NEPA), 42 U.S.C. 4321-4347, and the Council on Environmental Quality NEPA implementing regulations, 40 CFR Parts 1500-1508, the Pipeline and Hazardous Materials Safety Administration (PHMSA) is announcing the availability of and requesting comments on the Draft Environmental Assessment (Draft EA) for the Longhorn Pipeline Reversal Project (Proposed Project).

DATES: Submit any comments regarding the Draft EA no later than September 14, 2012.

ADDRESSES: Comments should reference the docket number PHMSA-2012-0175 at the beginning of the comment. Comments are posted without changes or edits to http://www.regulations.gov, including any personal information provided. There is a privacy statement published on http://www.regulations.gov. Comments may be submitted in the following ways:

E-Gov Web Site: http://www.regulations.gov. This site allows the public to enter comments on any Federal Register notice issued by any agency.

Mail: Docket Management System: U.S. Department of Transportation, Docket Operations, M-30, West Building Ground Floor, Room W12-140, 1200 New Jersey Avenue SE., Washington, DC 20590. If you submit your comments by mail, please submit two copies. To receive confirmation that PHMSA has received your comments, please include a self-addressed stamped postcard.

Hand Delivery: Docket Management System: U.S. Department of Transportation, Docket Operations, M-30, West Building Ground Floor, Room W12-140, 1200 New Jersey Avenue SE, Washington, DC 20590 between 9:00 a.m. and 5:00 p.m., Monday through Friday, except Federal holidays.

Fax: Docket Management System: U.S. Department of Transportation, Docket Operations, 202-493-2251.

PHMSA has posted the Draft EA at http://www.regulations.gov in docket number PHMSA-2012-0175.

The Draft EA is also available for inspection at the following public libraries:

• Austin Public Library—Twin Oaks Branch, 1800 South 5th Street, Austin, TX 78704, 512-974-9980.

• Collier Regional Library, 6200 Pinemont Drive, Houston, TX, 77092, 832-393-1740.

• Abilene Public Library-South Branch, 1401 South Danville Drive, Abilene, TX 79605, 325-698-7565.

• El Paso Main Library, 501 North Oregon Street, El Paso, TX, 79901, 915-543-5433.

• Ector County Public Library, 321 West 5th Street, Odessa, TX, 79761, 432-332-0633.

FOR FURTHER INFORMATION CONTACT: Amelia Samaras, Attorney, Pipeline and Hazardous Materials Safety Administration, Office of the Chief Counsel, 1200 New Jersey Avenue SE., Washington, DC 20590; by phone at 202-366-4362; or email at amelia.samaras@dot.gov.

SUPPLEMENTARY INFORMATION: The Longhorn Pipeline runs from El Paso, Texas to Houston, Texas and is owned and operated by Magellan Pipeline Company, L.P. (Magellan). The Longhorn Pipeline currently transports refined petroleum products from east to west (Houston to El Paso). The Proposed Project would convert the segment of the Longhorn Pipeline from Crane, Texas to East Houston, Texas to crude oil service and reverse the flow so that crude oil would flow from west to east (Crane to Houston). At Crane, refined products would enter the pipeline and move west to El Paso. The refined products would enter the Longhorn Pipeline via an existing pipeline segment that connects the Longhorn Pipeline to the existing Orion West Pipeline located to the north of the Longhorn Pipeline. The Orion West Pipeline runs from Frost, Texas to El Paso and is also owned and operated by Magellan.

PHMSA is responsible for regulating the transportation of hazardous liquids via pipeline. PHMSA issues and enforces pipeline safety regulations that dictate requirements for construction, design, testing, operation, and maintenance of natural gas and hazardous liquid (including crude oil, petroleum products, and anhydrous ammonia) pipelines. PHMSA does not typically serve as lead agency for pipeline construction projects, as it has no authority over pipeline siting and does not issue any approval or authorization to commence a pipeline construction project. However, a settlement agreement specific to this action titled: “The Longhorn Mitigation Plan” (LMP) resulted from litigation associated with changes to the Longhorn Pipeline in 1999. The LMP provides PHMSA with broader responsibility and oversight of the Longhorn Pipeline.

The Proposed Project would require upgrades to the pipeline and would include construction of a six-mile pipeline segment in El Paso and a 2.5-mile pipeline segment in Houston. Modifications and upgrades to existing infrastructure to facilitate reversal and increased capacity, such as new pump stations and terminals, would occur at various locations along the Longhorn and Orion Pipelines' right-of-ways. Although not originally included in the LMP, activities along the Orion West Pipeline and the segment from Odessa to Crane that would take place as a result of the Proposed Project are analyzed in this Draft EA as connected actions.

This Draft EA analyzes the changes that would take place as a result of the Proposed Project and how the changes could impact the human environment during construction, normal operations, and in the unlikely event of a release. PHMSA has also analyzed the condition of the Longhorn Pipeline and how the change in product and direction would affect the pipeline.

Linda Daugherty,
Deputy Associate Administrator for Policy and Programs.

[FR Doc. 2012-18524 Filed 7-30-12; 8:45 am]

BILLING CODE 4910-60-P